DEPARTMENT OF JUSTICE

Office for Victims of Crime

[OJP(OVC)-1356]

Notice of Solicitation for Training and Technical Assistance for Victim Assistance to Trafficking Victims

AGENCY: Office for Victims of Crime, Office of Justice Programs, Justice.

ACTION: Notice of solicitation.

SUMMARY: Notice is hereby given that the Office for Victims of Crime (OVC) is requesting applications for the Training and Technical Assistance for Victim Assistance to Trafficking Victims solicitation. The purpose of this solicitation is to support the development, expansion, or strengthening of victim service programs for victims of trafficking in persons funded under the Services for Trafficking Victims Discretionary Grant Program (Trafficking Program).

DATES: Applications for competitive programs must be received (not postmarked) at the OVC Training and Technical Assistance Center located at the address below on Monday, June 29, 2002, no later than 5:30 eastern standard time. OVC will not grant extensions of the due date.

ADDRESSES: All applications should be addressed to Office for Victims of Crime, c/o OVC Training and Technical Assistance Center, 10530 Rosehaven Street, Suite 400, Fairfax, Virginia 22030 (telephone 703-385-3200). Applicants must clearly write the name of the program being applied for in the lower left corner of the envelope. OVC does not accept faxed submissions. Please be advised that if an application does not reach the OVC Training and Technical Assistance Center (TTAC) by the due date, it will not be considered for funding regardless of the postmark date.

FOR FURTHER INFORMATION CONTACT: Michelle Avery Weston, Program Specialist (telephone 202-514-5084 or e-mail averym@ojp.usdoj.gov). Interested applicants should obtain the OVC FY 2002 Services for Trafficking Victims Discretionary Grant Application Kit. This application kit provides the necessary information and guidance for preparing and submitting an application for an OVC Services for Trafficking Victims Discretionary grant program award.

Section I of the application kit contains solicitation for the two competitive programs. Section II presents general application requirements and includes the required application forms. To request applicant kits, please call the OVC Resource Center at 1-800-627-6872 or call the OVC Reply Line at 202-616-1926. In addition, the application kit can be downloaded from the OVC World Wide Web home page at www.ojp.usdoj.gov/ovc.

SUPPLEMENTARY INFORMATION: Type and Amount of Award: One cooperative agreement will be awarded in the amount of $200,000.

Award Period: Up to 36 months.

Purpose(s): The purpose of the Trafficking Training and Technical Assistance Program is to provide comprehensive, skills-building training and technical assistance to states, Indian tribes, units of local government, and nonprofit, nongovernmental victims' service organizations that have received funding under the Trafficking Program. This training and technical assistance will include:

• Assisting Trafficking Program funding recipients in assessing technical assistance needs and maintaining flexibility to address a variety of organizational and/or service needs.

• Promoting awareness among Trafficking Program funding recipients of resources and mentoring to meet the comprehensive needs of trafficking victims.

• Identifying and replicating/adapting promising practices in trafficking victim service delivery.

(Although the primary intended recipients of training and technical assistance provided through this project are grantees under the Trafficking Program, the training and technical assistance provider awarded funding under this program solicitation also may assist service providers who are not grant recipients, and federal, state/regional, and local government agencies engaged in anti-trafficking activities. Such assistance should be provided only when the needs of Program grantees have been sufficiently addressed, and to the extent feasible within existing budget limitations. For example, training and technical assistance materials developed for Program grantees ideally also should be appropriate/adaptable for wider dissemination and use beyond Trafficking Program grantees.)

Problem Statement: There is a critical need for training and technical assistance among service providers and criminal justice professionals who are serving trafficking victims. Given the diversity of trafficking victims' origins and forms of their victimization, their need for comprehensive services and intensive case management, their barriers to accessing services, and the fact that trafficking cases with varying numbers of victims may surface anywhere in the country, the challenges faced by service providers are clear. Existing service providers have been called on to develop and deliver expanded services on an ad hoc basis, often at a moment's notice and without receiving additional resources to support these expanded services. Many service providers throughout the United States remain unaware of the crime, the needs of victims, the existing services for trafficking victims in their area, if any, and the need to coordinate among government and nongovernment entities at all levels (local, state, regional, and federal).

The crime of trafficking requires more than just a law enforcement or victim service response, but a collaborative and integrative effort to address special needs and circumstances of trafficking victims. Criminal justice system-based professionals and community-based service providers need assistance in developing collaborative mechanisms to improve community responses to trafficking victims. Recipients of funding for victim services under the Services for Trafficking Victims Program who would be eligible for training and technical assistance under this project include representatives from a wide range of service professions, including but not limited to social services, legal services, mental health services, health care providers, faith-based organizations, refugee and migrant workers organizations, and the women's, children's, and crime victims' advocacy community.

Background: Under the provisions of the Trafficking Victims Protection Act of 2000 (Pub. L. No. 106-386), 22 U.S.C. 7101 et. seq., Congress authorized an array of new services and protections for victims of trafficking. Congress appropriated $10,000,000 to the Department of Justice to support the development or enhancement of victim service programs for trafficking victims, and indicated that a percentage of funds should be dedicated to training and technical assistance related to victim services.

Program Strategy: OVC will competitively select an organization to implement training and technical assistance for Trafficking Program grantees in the form of a cooperative agreement. This responsibility will be carried out with the full collaboration of OVC Trafficking Program monitors who will provide input and guidance to the selected training and technical assistance provider regarding the needs assessment plan, selection of training topics, training curricula, and other deliverables. In addition, OVC and the selected training and technical assistance provider will work closely to exchange information and assess Trafficking Program grantee performance, based on information collected via formal (e.g., categorical progress reports submitted by grantees, site visit observations, and reports) and informal (e.g., periodic telephone and ­e-mail communication with grantees) methods.

Proposals in response to this solicitation should describe how this training and technical assistance program will be implemented, how the objectives will be achieved, and how the program will address the diverse needs of trafficking victim service providers. Specifically, proposals should:

• Identify the types of training and technical assistance requests anticipated and the strategies proposed to address them.

• Include a detailed discussion of the criteria for prioritizing training and technical assistance requests and the elements of a screening protocol for selecting sites requesting training and technical assistance.

• Address how the training and technical assistance provider will market materials developed for trafficking program grantees to other victim service providers assisting trafficking victims.

• Provide an implementation plan that includes a time-task plan outlining activities and deliverables. This implementation plan should demonstrate innovation in the design and delivery of training and technical assistance, and identify how resources will be used to maximize the impact of training and technical assistance in a cost-effective manner.

Objectives

• Assess the training and technical assistance needs of Trafficking Program grantees.

• Develop and facilitate the use of research-driven training and technical assistance materials.

• Provide technical assistance to Trafficking Program grantees to build their capacity to assess needs, initiate program planning, implement appropriate services for victims, and evaluate and sustain programs.

• Establish a network of experienced trafficking victim service providers who can contribute substantive input to the development of training and technical assistance.

• Establish a mentor program of experienced trafficking victim service providers who will provide training and technical assistance on request.

• Enhance the skills of Trafficking Program grantees by providing training and technical assistance which might include but is not limited to the following subjects:

• Trafficking Program elements and requirements.

• Financial sustainability of programs.

• Coordination with federal, regional, state, and local public agencies.

• Confidentiality and victim safety/security.

• Jurisdiction issues.

• Evaluation of the quality and utility of the training and technical assistance services provided.

• Identification and access of resources for trafficking victims.

• Assist OVC in monitoring performance of Trafficking Program grantees by assessing progress toward program goals.

Deliverables: In addition to the strategy and content of the training and technical assistance design, the following are specific deliverables to be completed during the project period:

• Establish, in collaboration with OVC, an network of experienced trafficking victim service providers to inform topic selection and content guidelines for training and technical assistance materials, assist in the review and analysis of performance measure data, and assess the progress of Trafficking Program grantees.

• Identify and establish a network of experienced trafficking victim service providers to serve as mentors to Trafficking Program grantees.

• Develop a Trafficking Program grantees training and technical assistance needs assessment plan (to be delivered within 30 days after the grant award).

• Develop a protocol and plan for delivery of training and technical assistance that includes criteria for prioritizing requests and addresses different levels of technical assistance including immediate and long-range responses, comprehensive system response, and specialized response (to be delivered within 60 days after the grant award).

• Develop a training curriculum or curricula and generally increase the number of technical assistance and training tools that support delivery of appropriate and adequate services to trafficking victims (to be delivered within 180 days after the grant award).

• Provide additional ongoing training and technical assistance to Trafficking Program grantees that will enable them to improve direct services to trafficking victims.

• Assist Trafficking Program grantees in the development of protocols for effective case management and service delivery to trafficking victims, and collect/disseminate such protocols among other Trafficking Program grantees and victim service providers serving trafficking victims. Such protocols should address supporting victims in their participation in the criminal justice process and provide guidance on victim privacy and confidentiality.

The training and technical assistance delivery plan is subject to OVC review and approval. Training materials shall not include information about ongoing investigations or prosecutions, or disclose identities or locations of victims or other sensitive information. As requests for training and technical assistance may exceed the availability of resources, grantees must develop a plan that fosters technological innovation (such as Web-based dissemination) to maximize available resources at minimum cost.

Performance Measurement: To ensure compliance with the Government Performance and Results Act (GPRA), Public Law 103-62, this solicitation notifies applicants that funding recipients will be required to collect and report data that measure the results of the projects implemented under this program. To ensure accountability for this data, the following performance measures are provided:

• The number of training and technical assistance requests fulfilled.

• The development of a trafficking victims staff training curriculum.

• The development of model protocols for victim case management and victim service delivery.

Award recipients will be required to document achievement of these measures in periodic progress reports submitted to OVC. Progress reports must include information regarding the composition and participation of the networks; the number, nature, and scope of training and technical assistance requests fulfilled; the development, pilot-testing, and revision of a trafficking victims staff training curriculum; and the number and scope of model protocols developed for victim case management and victim service delivery.

Evaluation: The performance measures identified in the preceding section represent minimal standards that the training and technical assistance grantee will be expected to meet. Applicants must provide an evaluation plan to self-assess performance and the impact of training and technical assistance efforts. This evaluation plan must:

• Describe the evaluation strategy (to collect data on the performance measures identified above and identify other measures to reflect the impact of training and technical assistance rendered).

• Provide a timetable for performance of the evaluation.

• Indicate the resources required to perform the evaluation.

Eligibility Requirements: As defined by statute, applicants may be states, Indian tribes, units of local government, and nonprofit, nongovernmental victims' service organizations.

Selection Criteria: Specific criteria include:

1. Problem(s) To Be Addressed

Applicants must demonstrate an indepth knowledge and understanding of the provision of direct services for victims of trafficking. Specifically, applicants must demonstrate the following:

• Knowledge of current issues/problems related to the delivery of appropriate and effective services to victims of trafficking, and the ability to adapt suitable victim-related materials and resources to meet the needs of trafficking victim service providers.

• Knowledge/understanding of the provision of direct services and case management appropriate for victims of trafficking in persons.

• Knowledge/understanding of service provision in situations involving large numbers of victims of trafficking, torture, or mass trauma.

• Knowledge of (and ideally, experience in) the federal criminal justice system as it relates to trafficking victims and victims of crime in general.

• Understanding of legal issues as they relate to victims of crime, generally, and to victims of trafficking, including advising victims about legal protections provided in the Trafficking Victims Protection Act of 2000.

• Understanding of the jurisdictional and coordination issues involved in the provision of services to victims of trafficking.

2. Goals and Objectives

Applicants are encouraged to be realistic in developing their project's goals and objectives. The overall goals of the project must be clearly defined and linked to the needs of service providers set forth in the “Problems(s) To Be Addressed” section (above). Applicants must be specific in addressing identified problems. Each applicant must include a statement of purpose that describes the expected outcomes and achievements for the project period.

Project goals must be stated in clear and measurable terms so that project staff can track the project's progress. Project objectives must be clearly defined, measurable, and described. Objectives must be stated as a list of quantifiable activities that will assist applicants in achieving project goals.

3. Project Strategy/Design

The project design must support the purpose and goals of the Trafficking Program. The project strategy must include sufficient detail so that the reader can understand what will be accomplished, how it will be accomplished, and who will accomplish it. Applicants must provide a time-task plan that clearly identifies major activities and deliverables for the duration of the project. All proposed tasks should be presented in a way that allows a reviewer to see the logical progression of tasks and be able to relate the tasks directly to the accomplishment of project goal(s). Proposed activities should be realistic and reflect the project's allocated time, staff, and funding. A clear picture of the contents or components of products or training materials is important, as is a detailed plan for packaging and disseminating products to the target audience(s). In the past, reviewers have given higher scores to applications that describe how they will introduce products to the field; therefore, applicants are encouraged to provide such information. Detailed procedures for pilot-testing and refining training and technical assistance products also have resulted in more competitive applications.

4. Program Management and Organizational Capability

Applicants must allocate adequate staff resources to overall management of this project, and must demonstrate how their resources, capabilities, and experience will enable them to achieve the goals and accomplish the tasks of the project for which they are applying. Specifically, they must demonstrate experience in organizing and implementing high-quality training events and a proven ability to provide technical assistance, particularly for victim service providers and related criminal justice system or community-based personnel. Points will be awarded based on applicants' demonstrated capability to implement a national-scope, federally funded project, including evidence that applicants possess the requisite staff and expertise. Organizational capability will be assessed on the basis of (1) applicants' described management structure, previous experience with similar or related efforts, and financial capability; and (2) applicants' project management plan and documentation of the professional staff members' unique qualifications to perform their assigned tasks. Applicants must clearly establish that their experience and resources enable them to achieve the goals and objectives of this program. Additional desirable experience includes:

• Ability to understand cultural issues inherent in service provision to trafficking victims.

• Understanding of trafficking.

• Understanding of victims' unique needs (housing, medical services, and mental health services, etc.) and the comprehensive case management required to provide optimal services to victims.

• Understanding of/familiarity with federal criminal justice process and mechanisms for collaboration among criminal justice system-based professionals and community-based resources.

• Experience in or ability to develop coordinated community interventions and/or collaborations with local, state, tribal, or national entities to assist victims of trafficking.

• Familiarity with resources for victim assistance.

5. Program Evaluation

This criterion addresses an applicant's plan for measuring project progress and success. All applications must contain a plan for evaluating the accomplishment of project objectives. Applicants must describe what evaluation data will be gathered and analyzed and the resources that are being committed for this purpose. In determining the quality of the evaluation plan, the following factors will be considered:

• Extent to which the evaluation plan will provide the kind of information that contributes to the effectiveness of management and administration of the project, documents that objectives have been met, and determines the overall effectiveness and impact of the project.

• Extent to which the proposed methods of evaluation are thorough, feasible, and appropriate to the goals, objectives, and outcomes of the proposed project.

• Adequacy of the identified performance measures to demonstrate whether and to what extent the proposed strategy is meeting its short-term, intermediate, and long-term objectives.

6. Budget

All applicants must provide a proposed budget and budget narrative for the proposed project. The budget must be complete, detailed, reasonable, allowable, and cost effective in relation to the activities proposed. OVC prefers that applicants use the Budget Detail Worksheet/Budget Narrative form (OJP Form 7150/1) provided in Section II of the application kit.

All applicants must indicate in their budgets the amount of project funds for applicable standard program costs such as personnel, fringe benefits, equipment, supplies, travel, consultants/contracts, and indirect costs. Please see the sample budget detail sheet in the Forms Appendix for an example.

All applicants should anticipate either a post-award meeting with the OVC program monitor or an OVC meeting for discretionary grantees each year of the project. For these meeting costs, applicants outside the Washington, DC, metropolitan area should budget $1,000 for travel, lodging, and per diem costs for one key project staff person to attend the meeting.

Applicants also must budget costs to attend one Financial Management Training Seminar sponsored by the Office of Justice Programs, Office of the Comptroller. Specific information (such as dates and locations of upcoming training events) to assist grantees in estimating such costs can be found at www.ojp.usdoj.gov/oc/fmts.htm and www.ncja.org/financial_management.html.

By statute, federal funds for this project may not exceed 75 percent of total project costs; therefore, federal funds may be used to pay up to 75 percent of the total costs of a victim services project. The matching requirement is 25 percent of total project costs. Applicants should apply the match requirement over and above the total amount requested. (For example, if the grant award is $200,000, the total project cost would be $266,666. The match would therefore be $66,666 or 25 percent of total project costs.) The matching requirement may be met through cash or in-kind contributions, or a combination of both.

Additional Selection Considerations

Applicants must identify the author(s) of grant applications submitted in response to this solicitation.

Dated: June 11, 2002.
John W. Gillis,
Director, Office for Victims of Crime.

[FR Doc. 02-15150 Filed 6-14-02; 8:45 am]

BILLING CODE 4410-18-P